DEPARTMENT OF TRANSPORTATION

Federal Railroad Administration

[Docket No. FRA-2019-0099]

Program Approval: Norfolk Southern Railway Company

AGENCY: Federal Railroad Administration (FRA), Department of Transportation (DOT).

ACTION: Notice of approval.

SUMMARY: FRA is issuing this notice to explain its rationale for approving a Norfolk Southern Railway Company (NS) petition for a Test Program designed to test track inspection technologies (i.e., an autonomous locomotive-mounted geometry measurement system and an automated optical system) and new operational approaches to track inspections and its rationale for granting a limited, temporary suspension of a substantive FRA rule that is necessary to facilitate the conduct of the Test Program.

FOR FURTHER INFORMATION CONTACT: Yu-Jiang Zhang, Staff Director, Track Division, Office of Railroad Safety, FRA, 1200 New Jersey Avenue SE, Washington, DC 20590, telephone (202) 493-6460 or email yujiang.zhang@dot.gov; Aaron Moore, Attorney, Office of Chief Counsel, FRA, 1200 New Jersey Avenue SE, Washington, DC 20590, telephone (202) 493-7009 or email aaron.moore@dot.gov.

SUPPLEMENTARY INFORMATION: On November 1, 2019, NS petitioned FRA under Title 49 Code of Federal Regulations (CFR) Section 211.51 to suspend certain requirements of FRA's track safety regulations to conduct a program to test new track inspection technologies (i.e., an autonomous locomotive-mounted geometry measurement system and an automated optical system) and new operational approaches to track inspections. NS also submitted a written Test Program providing a description of the proposed tests and the geographic scope of the testing territory.

The Test Program specifies that the tests will be conducted on approximately 1,042 miles of main and siding tracks of the former Norfolk & Western route from Norfolk, Virginia to Portsmouth, Ohio on NS's Pocahontas Division.

The Test Program is designed to test autonomous locomotive-mounted geometry measurement systems and gradually decreased manual visual inspections as an alternative to FRA's inspection frequency requirements. NS indicates that it will continue to use other inspection technologies during the Test Program, including (1) Sperry rail flaw and joint bar inspections, and (2) Vehicle/Track Interaction, a locomotive-based ride quality inspection system. The Test Program will be carried out in three separate phases over the course of one year as detailed in Exhibit C of the Test Program (available for review at www.regulations.gov (docket number FRA-2019-0099)).

After review and analysis of NS's petition for a Test Program, subject to certain conditions designed to ensure safety, FRA approved NS's Test Program and suspended the requirements of 49 CFR 213.233(b)(3) ¹ and (c) as necessary to carry out the Test Program. A copy of FRA's letter approving NS's Test Program and granting the requested limited temporary suspension of 49 CFR 213.233(b)(3) and (c), as well as a complete copy of the Test Program, is available in docket number FRA-2019-0099 at www.regulations.gov. FRA's letter approving NS's Test Program and granting the requested limited temporary suspension of certain regulations specifically details the conditions NS will need to undertake during the Test Program. As required by 49 CFR 211.51(c), FRA is providing this explanatory statement describing the Test Program.

¹ The suspension of 49 CFR 213.233(b)(3) only applies to Phase 3 of the Test Program.

As explained more fully in its approval letter, FRA finds that the temporary, limited suspension of 49 CFR 213.233(b)(3) and (c) is necessary to the conduct of the approved Test Program, which is specifically designed to evaluate the effectiveness of new automated track inspection technologies and operational methods. Furthermore, FRA also finds that the scope and application of the granted suspension of 49 CFR 213.233(b)(3) and (c) as applied to the Test Program are limited to that necessary to conduct the Test Program. Finally, FRA's approval letter outlines the conditions of the Test Program that will ensure standards sufficient to assure safety.

Issued in Washington, DC, on January 27, 2020.
John Karl Alexy,
Associate Administrator for Railroad Safety, Chief Safety Officer.

[FR Doc. 2020-01667 Filed 1-29-20; 8:45 am]

BILLING CODE 4910-06-P